DEPARTMENT OF HOMELAND SECURITY

Federal Emergency Management Agency

[Docket ID: FEMA-2019-0010; OMB No. 1660-0083]

Agency Information Collection Activities: Submission for OMB Review; Comment Request; Community Disaster Loan (CDL) Program

AGENCY: Federal Emergency Management Agency, DHS.

ACTION: Notice and request for comments.

SUMMARY: The Federal Emergency Management Agency, as part of its continuing effort to reduce paperwork and respondent burden, invites the general public and other Federal agencies to take this opportunity to comment on a revision, of a currently approved information collection. In accordance with the Paperwork Reduction Act of 1995, this notice seeks comments concerning the Community Disaster Loan (CDL) Program. This revision will combine collections found under OMB Control Numbers 1660-0082 and 1660-0083. Upon approval of this revision, OMB Control Number 1660-0082, Application for Community Disaster Loan Cancellation will be discontinued.

DATES: Comments must be submitted on or before September 27, 2019.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Martha Polanco, Program Manager, Disaster Assistance Directorate, Public Assistance Division, (202) 212-5761.

SUPPLEMENTARY INFORMATION: This proposed information collection previously published in the Federal Register on April 24, 2019 at 84 FR17183 with a 60 day public comment period. FEMA received one comment. The commenter stated that loans following disasters, such as those under the CDL Program, are important after disasters, and that Congress and FEMA should ensure that adequate loan amounts are available for jurisdictions with needs after disasters, particularly for west coast States such as California, Oregon, and Washington, following a major earthquake. The CDL Program provides operational funding to help local governments that have incurred a significant loss in revenue, due to a major disaster, that has or will adversely affect their ability to provide essential municipal services. Local governments within a declared disaster area are eligible to apply for loans through the CDL program if they suffer a substantial loss of tax and other revenues for the current or succeeding fiscal year. Communities affected by major earthquakes, or any other Federally declared major disasters, that meet the eligibility criteria may apply for loans through the CDL program.

The purpose of this notice is to notify the public that FEMA will submit the information collection abstracted below to the Office of Management and Budget for review and clearance.

Collection of Information

Title: Community Disaster Loan (CDL) Program.

Type of information collection: Revision of a currently approved information collection.

OMB Number: 1660-0083.

Form Titles and Numbers: FEMA Form 090-0-4, Letter of Application; FEMA Form 090-0-1, Certification of Eligibility for Community Disaster Loans; FEMA Form 116-0-1, Promissory Note; FEMA Form 085-0-1, Local Government Resolution—Collateral Security; FEMA Form 112-0-3c, Certification Regarding Lobbying; FEMA Form 009-0-15, Application for Loan Cancellation.

Abstract: The loan package for the CDL Program provides Local governments that have suffered substantial loss of tax or other revenues as a result of a major disaster or emergency, the opportunity to obtain financial assistance in order to perform their governmental functions. The loan must be justified on the basis of need and actual expenses.

Affected Public: State, local or Tribal Government.

Estimated Number of Respondents: 360.

Estimated Number of Responses: 360.

Estimated Total Annual Burden Hours: 1,006.67 hours.

Estimated Total Annual Respondent Cost: $53,937.11.

Estimated Respondents' Operation and Maintenance Costs: $0.

Estimated Respondents' Capital and Start-Up Costs: $0.

Estimated Total Annual Cost to the Federal Government: $1,022,264.28.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

William H. Holzerland,
Sr. Director for Information Management, Mission Support, Federal Emergency Management Agency, Department of Homeland Security.

[FR Doc. 2019-18544 Filed 8-27-19; 8:45 am]

BILLING CODE 9111-19-P